DEPARTMENT OF AGRICULTURE

Rural Housing Service

Notice of Request for Extension of a Currently Approved Information Collection

AGENCY: Rural Housing Service (RHS), USDA.

ACTION: Proposed collection; Comments requested.

SUMMARY: In accordance with the Paperwork Reduction Act of 1995, this notice announces the Rural Housing Service's intention to request an extension for a currently approved information collection in support of the program for 7 CFR Part 1944, subpart L, Tenant Grievance and Appeals Procedure.

DATES: Comments on this notice must be received by May 24, 2004 to be assured of consideration.

FOR FURTHER INFORMATION CONTACT: Janet Stouder, Deputy Director, Multi-Family Housing Portfolio Management Division, Rural Housing Service, STOP 0782, Room 1245, 1400 Independence Avenue, SW., Washington, DC 20250-0782, Telephone: 202-720-9728.

SUPPLEMENTARY INFORMATION: Title: 7 CFR Part 1944, subpart L, Tenant Grievance and Appeals Procedure.

OMB Number: 0575-0046.

Expiration Date of Approval: October 31, 2004.

Type of Request: Extension of Currently Approved Information Collection.

Abstract: The regulation promulgates the procedures by which tenants, cooperative members, and applicants for occupancy may appeal adverse actions by owner/managers of multi-family housing projects financed by RHS. Such adverse actions include cases whereby tenants, cooperative members, or applicants have received written notice that assistance provided by RHS is being denied, substantially reduced or terminated.

Estimate of Burden: Public reporting burden for this information collection is estimated to average .41 hours per response.

Respondents: Individuals or households, state or local governments, small businesses or other for profit or non-profit organizations.

Estimated Number of Respondents: 200.

Estimated Number of Responses per Respondent: 1.

Estimated Number of Responses: 200.

Estimated Total Annual Burden on Respondents: 82 hours.

Copies of this information collection can be obtained from Renita Bolden, Regulations and Paperwork Management Branch, at (202) 692-0035.

Comments: Comments are invited on: (a) Whether the proposed collection of information is necessary for the proper performance of the functions of RHS, including whether the information will have practical utility; (b) the accuracy of RHS's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave. SW., Washington, DC 20250. All responses to this notice will be summarized and included in the request for OMB approval. All comments will also become a matter of public record.

Dated: March 18, 2004.
Arthur A. Garcia,
Administrator, Rural Housing Service.

[FR Doc. 04-6516 Filed 3-23-04; 8:45 am]

BILLING CODE 3410-XV-P